DEPARTMENT OF ENERGY

Federal Energy Regulatory Commission

[Docket No. Project No. 15368-001]

Orcas Power & Light Cooperative; Notice of Intent To File License Application, Filing of Draft Application, Request for Waivers of Integrated Licensing Process Regulations Necessary for Expedited Processing of a Hydrokinetic Pilot Project License Application, and Soliciting Comments

a. Type of Filing: Notice of Intent to File a License Application for an Original License for a Hydrokinetic Pilot Project.

b. Project No.: 15368-001.

c. Date Filed: March 26, 2025.

d. Submitted By: Orcas Power & Light Cooperative (OPALCO).

e. Name of Project: Rosario Strait Tidal Energy Project.

f. Location: On Rosario Strait in the Salish Sea, east of Blakely Island (approximately 48.5611° N, 122.7679° W) in San Juan County, Washington.

g. Filed Pursuant to: 18 CFR 5.3 of the Commission's regulations.

h. Applicant Contact: Russell Guerry, Orcas Power & Light Cooperative (OPALCO), 183 Mount Baker Road, Eastsound, Washington 98245; (360) 376-3500; Rguerry@opalco.com.

i. FERC Contact: Golbahar Mirhosseini at golbahar.mirhosseini@ferc.gov.

j. OPALCO has filed with the Commission: (1) a notice of intent (NOI) to file an application for an original license for a hydrokinetic pilot project and a draft license application with monitoring plans; (2) a request for waivers of the integrated licensing process regulations necessary for expedited processing of a hydrokinetic pilot project license application; (3) a proposed process plan and schedule; (4) a request to be designated as the non-federal representative for section 7 of the Endangered Species Act (ESA) consultation; and (5) a request to be designated as the non-federal representative for section 106 consultation under the National Historic Preservation Act (collectively the pre-filing materials).

k. With this notice, we are soliciting comments on the pre-filing materials listed in paragraph j above, including the draft license application and monitoring plans. All comments should be sent to the address above in paragraph h. In addition, all comments must be filed with the Commission. The Commission strongly encourages electronic filing. Please file comments using the Commission's eFiling system at https://ferconline.ferc.gov/FERCOnline.aspx. Commenters can submit brief comments up to 6,000 characters, without prior registration, using the eComment system at https://ferconline.ferc.gov/QuickComment.aspx. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Secretary, Federal Energy Regulatory Commission, 888 First Street NE, Room 1A, Washington, DC 20426. Submissions sent via any other carrier must be addressed to: Debbie-Anne A. Reese, Secretary, Federal Energy Regulatory Commission, 12225 Wilkins Avenue, Rockville, Maryland 20852. All filings must clearly identify the project name and docket number on the first page: Rosario Strait Tidal Energy Project (P-15368-001). Any individual or entity interested in submitting comments on the pre-filing materials must do so by September 30, 2025.

l. With this notice, we are approving OPALCO's request to be designated as the non-federal representative for section 7 of the ESA and its request to initiate consultation under section 106 of the National Historic Preservation Act; and recommending that it begin informal consultation with: (a) the U.S. Fish and Wildlife Service and NOAA Fisheries as required by section 7 of ESA; and (b) the Alaska State Historic Preservation Officer, as required by section 106 of the National Historic Preservation Act, and the implementing regulations of the Advisory Council on Historic Preservation at 36 CFR 800.2.

m. With this notice, we also are asking federal, state, local, and tribal agencies with jurisdiction and/or expertise with respect to environmental issues to cooperate with us in the preparation of the environmental document. Agencies who would like to request cooperating status should follow the instructions for filing comments described in paragraph “k” above.

n. This notice does not constitute the Commission's approval of OPALCO's request to use the Pilot Project Licensing Procedures. Upon its review of the project's overall characteristics relative to the pilot project criteria, the draft license application contents, and any comments filed, the Commission will determine whether there is adequate information to conclude the pre-filing process.

o. The Rosario Strait Tidal Energy Project would consist of: (1) one Orbital Marine O2-X Floating Tidal device (Orbital O2-X) with two turbine rotors for a total rated capacity of 2.4 megawatts (MW); (2) one mooring and anchor system with four mooring lines and four anchors; (3) one new 3.3-mile subsea cable from the Orbital O2-X to an existing shoreline conduit and facility on Blakely Island; (4) a shore station containing all needed supervisory control and data acquisition (SCADA) and electrical interconnection equipment; and (6) appurtenant facilities. The project would have a total estimated average annual generation of 4,200,000 kilowatt hours per year.

p. A copy of the draft license application and all pre-filing materials are available for review on the Commission's website (http://www.ferc.gov), using the “eLibrary” link. Enter the docket number, excluding the last three digits of the sub-docket in the docket number field, to access documents. For assistance, contact FERC Online Support. A copy is also available via the contact in paragraph h.

q. Pre-filing Process Schedule. The pre-filing process will be conducted pursuant to the following tentative schedule. Revisions to the schedule below may be made based on staff's review of the draft application and any comments received.

Milestone | Date
Comments on pre-filing materials due | September 30, 2025.
Issuance of meeting notice (if needed) | October 15, 2025.
Public meeting/technical conference (if needed) | November 14, 2025.

r. Register online at https://ferconline.ferc.gov/FERCOnline.aspx to be notified via email of new filings and issuances related to this or other pending projects. For assistance, contact FERC Online Support.

The Commission's Office of Public Participation (OPP) supports meaningful public engagement and participation in Commission proceedings. OPP can help members of the public, including landowners, community organizations, Tribal members and others, access publicly available information and navigate Commission processes. For public inquiries and assistance with making filings such as interventions, comments, or requests for rehearing, the public is encouraged to contact OPP at (202) 502-6595, or at OPP@ferc.gov.

Dated: April 10, 2025.
Carlos D. Clay,
Deputy Secretary.

[FR Doc. 2025-06435 Filed 4-15-25; 8:45 am]

BILLING CODE 6717-01-P